DEPARTMENT OF HEALTH AND HUMAN SERVICES

Centers for Disease Control and Prevention

[30Day-17-0881]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Data Calls for the Laboratory Response Network (OMB Control Number 0920-0881, Expires 4/30/2017)—Revision—National Center for Emerging and Zoonotic Infectious Diseases (NCEZID), Centers for Disease Control and Prevention (CDC).

Background and Brief Description

The Centers for Disease Control and Prevention (CDC) is submitting a request for a three year revision for OMB Control No. 0920-0881, an existing collection conducted by Laboratory Response Network (LRN), National Center for Emerging and Zoonotic Infectious Diseases (NCEZID).

The Department of Health and Human Services established LRN in accordance with Presidential Decision Directive 39, which outlined national anti-terrorism policies and assigned specific missions to Federal departments and agencies. The LRN's mission is to maintain an integrated national and international network of laboratories that can respond to acts of biological, chemical, or radiological terrorism and other public health emergencies. Federal, state and local public health laboratories voluntarily join the LRN.

The LRN Program Office maintains a database of information for each member laboratory that includes contact information as well as staff and equipment inventories. However, semiannually or during emergency response, the LRN Program Office may conduct a Special Data Call to obtain additional information from LRN Member Laboratories in regards to biological or chemical terrorism preparedness.

LRN has used the “Data Calls for the Laboratory Response Network” generic mechanism (OMB Control No. 0920-0881) twice during the last three years. Once in 2014, LRN surveyed its members to ascertain which, if any, labs would be willing to test clinical specimens for Ebola virus. The information gathered led to an emergency deployment of a new Ebola assay for LRN members. It is critical for the LRN to know which labs have equipment to support an agent specific assay during an emergency. In 2015, LRN surveyed members via broadcast email asking how many facilities had a specific version of an instrument. The information was used to help the LRN program office determine if new procedures should be written and made available to members to support the instrument in question.

Special Data calls may be conducted via queries that are distributed by broadcast emails or by survey tools (i.e. Survey Monkey).

The only cost to respondents is their time to respond to the data call. Authorizing legislation comes from Section 301 of the Public Health Service Act.

Estimated Annualized Burden Hours
Type of respondents | Form name | Number of respondents | Number of responses per respondent | Average burden per response (in hours)
Public Health laboratorians | Special Data Call | 136 | 1 | 30/60

Leroy A. Richardson,
Chief, Information Collection Review Office, Office of Scientific Integrity, Office of the Associate Director for Science, Office of the Director, Centers for Disease Control and Prevention.

[FR Doc. 2017-02564 Filed 2-7-17; 8:45 am]

BILLING CODE 4163-18-P